DEPARTMENT OF ENERGY

Federal Energy Regulatory Commission

[Project No. 14380-000]

Grand Coulee Project Hydroelectric Authority; Notice of Preliminary Permit Application Accepted for Filing and Soliciting Comments, Motions To Intervene, and Competing Applications

On April 4, 2012, Grand Coulee Project Hydroelectric Authority filed an application for a preliminary permit, pursuant to section 4(f) of the Federal Power Act (FPA), proposing to study the feasibility of the Pinto Dam Hydroelectric Project (Pinto Dam Project or project) to be located at the U.S. Bureau of Reclamation's Pinto dam, on Billy Clapp Lake near the city of Moses Lake in Grant County, Washington. The sole purpose of a preliminary permit, if issued, is to grant the permit holder priority to file a license application during the permit term. A preliminary permit does not authorize the permit holder to perform any land-disturbing activities or otherwise enter upon lands or waters owned by others without the owners' express permission.

The proposed project would use the existing Pinto dam, and would consist of the following new facilities: (1) A 72-inch-diameter penstock connecting the existing Pinto dam outlet tunnel to a powerhouse located immediately downstream of the dam; (2) a powerhouse containing a 3.4-megawatt Francis turbine/generator unit; (3) a tailrace discharging flows into the existing feed route between Billy Clapp Lake and Brook Lake; (4) a 7,000-foot-long, 34.5-kilovolt (kV) transmission line extending from the project to a 34.5-kV transmission line owned by the Public Utility District No. 1 of Grant County, Washington; and (5) appurtenant facilities. The estimated annual generation of the Pinto Dam Project would be 8.1 gigawatt-hours.

Applicant Contact: Mr. Ronald K. Rodewald, Secretary-Manager, Grand Coulee Project Hydroelectric Authority, P.O. Box 209, Ephrata, Washington 98823; phone: (509) 754-2227.

FERC Contact: Jennifer Harper; phone: (202) 502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14380) in the docket number field to access the document. For assistance, contact FERC Online Support.

Dated: June 19, 2012.
Kimberly D. Bose,
Secretary.

[FR Doc. 2012-15482 Filed 6-25-12; 8:45 am]

BILLING CODE 6717-01-P